DEPARTMENT OF COMMERCE

International Trade Administration

A-570-890

Notice of Initiation of Administrative Review of the Antidumping Duty Order on Wooden Bedroom Furniture from the People's Republic of China

AGENCY: AGENCY:Import Administration, International Trade Administration, Department of Commerce.

SUMMARY: The Department of Commerce (“Department”) received timely requests to conduct an administrative review of the antidumping duty order on wooden bedroom furniture from the People's Republic of China (“PRC”). The anniversary month of this order is January. In accordance with the Department's regulations, we are initiating this administrative review.

EFFECTIVE DATE: March 7, 2006.

FOR FURTHER INFORMATION CONTACT: Eugene Degnan or Robert Bolling, AD/CVD Operations, Office 8, Import Administration, International Trade Administration, U.S. Department of Commerce, 14th Street and Constitution Avenue, N.W., Washington, D.C. 20230, telephone: (202) 482-0414 or (202) 482-3434, respectively.

SUPPLEMENTARY INFORMATION:

Background

The Department received timely requests, in accordance with 19 CFR 351.213(b) (2002), during the anniversary month of January, for an administrative review of the antidumping duty order on wooden bedroom furniture from the PRC covering 137 entities. Subsequently, 30 requesters withdrew their requests for review. The Department is now initiating an administrative review of the order covering the remaining 107 companies.

Initiation of Review

In accordance with section 19 CFR 351.221(c)(1)(i), we are initiating an administrative review of the antidumping duty order on wooden bedroom furniture from the PRC. We intend to issue the final results of this review not later than January 31, 2007.

Antidumping Duty Proceeding | Period to be Reviewed
THE PEOPLE'S REPUBLIC OF CHINA:¹
Wooden Bedroom Furniture A-570-890 | 6/24/04 - 12/31/05
• Art Heritage International Ltd., Super Art Furniture Co. Ltd., Artwork Metal & Plastic Co., Ltd., Jibson Industries, Always Loyal International*
• Baigou Crafts Factory of Fengkai
• Best King International Limited, Best King International Ltd., Bouvrie International Limited
• Birchfield Design Group, Inc., Birchfield Design (Asia), Ltd., Dongguan Birchfield Gifts Co., Ltd., Dongguan Longreen Birchfield Arts & Craft Co., Ltd.
• Chiu's Faithful Furniture (Shenzhen) Company Limited, Faithful International Trading (Hong Kong) Company Limited
• Conghua J.L. George Timber & Co.
• Dalian Guangming Furniture Co., Ltd.*
• Dalian Huafeng Furniture Co., Ltd.*
• DaLian Pretty Home Furniture Co., Ltd.
• Dawn Smart Furniture Co., Ltd.
• Decca Furniture Limited and other affiliates of Decca Holdings Limited
• Deqing Ace Furniture & Crafts Limited
• Der Cheng Furniture Co., Ltd.
• Dong Guan Hua Ban Furniture Co., Ltd.
• Dongguan Cambridge Furniture Co., Ltd., Glory Oceanic Co., Ltd.*
• Dongguan Dihao Furniture Co., Ltd.
• Dongguan Landmark Furniture Products Ltd.
• Dongguan Lung Dong Furniture Co., Ltd., Dongguan Dong He Furniture Co., Ltd., Engmost Investment Ltd.*
• Dongguan Mingsheng Furniture Co., Ltd.
• Dongguan New Technology Import & Export Co., Ltd.
• Dongguan Sea Eagle Furniture Co., Ltd., Kalanter (Hong Kong) Furniture Co., Ltd.
• Dongguan Sunpower Enterprise Co., Ltd.
• Dongguan Sunrise Furniture Co., Taicang Sunrise Wood Industry Co., Ltd, Shanghai Sunrise Furniture Co., Ltd., Fairmont Designs *
• Dongguan Yihaiwei Furniture Limited
• Dream Rooms Furniture (Shanghai) Co., Ltd.*
• Ever Spring Furniture Co., Ltd., S.Y.C. Family *
• Fine Furniture (Shanghai) Limited and its affiliates *
• Foshan Guanqiu Furniture Co., Ltd.*
• Fujian Lianfu Forestry Co., Ltd., Fujian Wonder Pacific Inc., Fuzhou Huan Mei Furniture Co., Ltd., Jiangsu Dare Furniture Co. Ltd.*
• Fujian Senda Foreign Trade Co., Ltd.
• Fuzhou Huan Mei Furniture Co., Ltd.
• Gaomi Yatai Wooden Ware Co., Ltd., Team Prospect International Ltd.*
• Guangdong New Four Seas Furniture Manufacturing, Ltd., Four Seas Furniture Manufacturing Ltd.
• Guangzhou Lucky Furniture Co., Ltd.
• Guangzhou Maria Yee Furnishings, Ltd., Pyla HK Ltd., Maria Yee, Inc.
• Hainan Rulai Furniture Co., Ltd.
• Honest Furniture Company Ltd.
• Hong Yu Furniture (Shenzhen)
• Huizhou Jadom Furniture Co., Ltd., Jadom Furniture Co., Ltd.
• Hung Fai Wood Products Factory Ltd.
• Hwangho New Century Furniture (Dongguan) Corp. Ltd., Trade Rich Furniture (Dongguan) Corp., Ltd., Hwang Ho International Holdings Limited
• Inni Furniture
• Jiangmen Kinwai Furniture Decoration Co., Ltd., Jiangmen Kinwai International Furniture Co., Ltd.*
• King Kei Trading Co. Ltd. King Kei Furniture Factory, Jiu Ching Trading Co., Ltd.
• King Wood Furniture Co., Ltd.
• Kong Fong Furniture
• Kong Fong Mao Iek Hong
• Kunwa Enterprises Company
• Lacquer Craft Mfg. Co., Ltd., Samson Holding Ltd., Samson International Enterprises, Legacy Classic Furniture, Universal Furniture International Inc.*
• Langfang TianCheng Furniture, Huari Furniture*
• Leefu Wood (Dongguan) Co., Ltd., King Rich International, Ltd.*
• Locke Furniture Factory, Kai Chan Furniture Co. Ltd., Kai Chan (Hong Kong) Enterprise Ltd., Taiwan Kai Chan*
• Maestro Wood Product Factory
• Mandarin Furniture (Shenzhen) Co., Ltd.
• Meikangchi (Nantong) Furniture Company Ltd.
• Million Kind Co., Ltd.
• Million Kind Furniture Co., Ltd. Million Kind Co., Ltd.
• NanTong YangZi Furniture Co., Ltd.
• Nathan International Ltd., Nathan Rattan Factory, Nathan China Group*
• Ngai Kun Trading
• Ningbo Furniture Industries Ltd., Ningbo Fubang Furniture Industries Limited, Techniwood Industries Limited, Techniwood (Macao Commercial Offshore) Limited, Ningbo Techniwood Furniture Industries Limited*
• Placetech Co., Ltd.
• Po Ying Industrial Co.
• Profit Force Limited
• Protrend Metal & Plastics (Shenzhen) Co., Ltd.
• Putian Ou Dian Furniture Co., Ltd.
• Qingdao Beiyuan-Shengli Furniture Co., Ltd., Qingdao Beiyuan Industry Trading Co. Ltd.
• Qingdao Shengchang Wooden Co., Ltd.
• RiZhao SanMu Woodworking Co., Ltd., RiZhao SanMu Woodworking Group*
• Rui Feng Woodwork (Dongguan) Co., Rui Feng Lumber Development (Shenzhen) Co., Ltd.*
• Senyuan Furniture Group
• Shanghai Aosen Furniture Co., Ltd.
• Shenyang Kunyu Wood Industry Co., Ltd.
• Shenzhen Dafuhao Industrial Development Co., Ltd.
• Shenzhen Shen Long Hang Industry Co., Ltd.
• Shenzhen Tiancheng Furniture Co., Ltd., Winbuild Industrial Ltd., Red Apple Furniture Co., Ltd., Red Apple Trading Co., Ltd.
• Sino Concord (Zhangzhou) Furniture Co., Ltd., Sino Concord International Corp.
• Speedy International Ltd.
• Starcorp Furniture (Shanghai) Co., Ltd., Shanghai Starcorp Furniture Co., Ltd., Orin*
• Sunforce Furniture (Hui-Yang) Co., Ltd., SunFung Wooden Factory, Sun Fung Co., Shin Feng Furniture Co. Ltd., Stupendous International Co. Ltd.*
• T.J. Maxx International Co., Ltd.
• Tianjin First Wood Co., Ltd.
• Tianjin Sande Fairwood Furniture Co., Ltd.*
• Time Crown (U.K.) International Ltd., China United International Co.
• Top Art Furniture
• Top Goal Development Co., Top Goal Furniture Co., Ltd. (Shenzhen)
• Tradewinds Furniture Ltd., Fortune Glory Industrial Ltd. (HK Ltd.) Nanhai Jiantai Woodwork Co., Ltd.*
• Transworld (Zhangzhou) Furniture Co., Ltd.
• Trendex Industries Ltd., Trendex Industries Ltd., (BVI), Dongguan Chunsan Wood Products Co., Ltd., Kunshan Junsen Furniture Co., Ltd.*
• Triple J Enterprises Co.
• Triple J Furniture (Shenzhen) Co., Ltd.
• Wan Bao Cheng Group Hong Kong Co., Ltd.
• Wanhengton Nueevder (Furniture) Manufacture Co., Ltd., Dongguan Wanhengton Industry Co., Ltd.*
• WBE Industries (Hui-Yang) Co., Ltd.
• Winmost Enterprises Limited
• Winny Universal, Ltd.
• Xilinmen Group Co., Ltd.
• Yihua Timber Industries Co., Ltd., New Classic Home Furnishings, Inc.*
• Yixinglong Furniture Co., Ltd.
• Yongxin Industrial (Holdings) Limited
• Zhejiang Niannianhong Industrial Co., Ltd.
• Zhongshan Fine Furniture
• Zhongshan Gainwell Furniture Co., Ltd.
• Zhongshan Golden King Furniture Industrial Co., Ltd., King Group Furniture*
• Zhongshan Winly Furniture Ltd.
• Zhongshan Winny Furniture Ltd.
• Zhongshan Youcheng Wooden Arts & Crafts Co., Ltd.
* These companies received a separate rate in the prior segment (the less-than-fair-value-investigation) of this proceeding.
¹ If one of the above named companies does not qualify for a separate rate, all other exporters of wooden bedroom furniture from the PRC that have not qualified for a separate rate are deemed to be covered by this review as part of the single PRC entity of which the named exporter is a part.

Sampling

Section 777A(c)(1) of the Tariff Act of 1930, as amended (“the Act”), directs the Department to calculate individual dumping margins for each known exporter and producer of the subject merchandise. Where it is not practicable to examine all known producers/exporters of subject merchandise, section 777A(c)(2) of the Act permits the Department to examine either (1) a sample of exporters, producers or types of products that is statistically valid based on the information available at the time of selection; or (2) exporters and producers accounting for the largest volume of the subject merchandise from the exporting country that can be reasonably examined.

Due to the large number of firms requested for an administrative review and the Department's experience regarding the resulting administrative burden to review each company for which a request has been made, the Department is considering exercising its authority to limit the number of respondents selected for review by sampling. See Section 777A(c) of the Act.

Should the Department determine to sample, it will follow the procedures outlined below. The Department will 1) Issue a letter to the interested parties detailing the proposed sampling methodology and the deadline for submitting comments thereon, 2) after analyzing the parties' comments, finalize its sampling methodology, 3) notify the parties and invite them to send a representative to witness the sampling selection, 4) conduct the sampling exercise, 5) notify all interested parties of the selection outcome of the sampling exercise (selected respondents will be issued the full antidumping questionnaire), and 6) record the results in a memo to the file.

Withdrawl of Request for Administrative Review

For this particular administrative review, due to the time constraints imposed by our statutory deadlines, and the need to preserve the statistical validity of the sampling methodology, it is unlikely that the Department will be able to grant any extensions to the 90-day time limit for withdrawals of request for review pursuant to 19 CFR 351.213(d)(1).

Separate Rates

In proceedings involving Non-Market Economy (“NME”) countries, the Department begins with a rebuttable presumption that all companies within the country are subject to government control and, thus, should be assigned a single antidumping duty deposit rate. It is the Department's policy to assign all exporters of merchandise subject to investigation in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991) (“Sparklers”), as amplified by Final Determination of Sales at Less Than Fair Value: Silicon Carbide from the People's Republic of China, 59 FR 22585 (May 2,1994) (“Silicon Carbide”). In accordance with the separate-rates criteria, the Department assigns separate rates to companies in NME cases only if respondents can demonstrate the absence of both de jure and de facto government control over export activities.

The Department recently modified the process by which exporters and producers may obtain separate-rate status in NME investigations. See Policy Bulletin 05.1: Separate-Rates Practice and Application of Combination Rates in Antidumping Investigations Involving Non-Market Economy Countries, (April 5, 2005), available on the Department's website at http://ia.ita.doc.gov/policy/bull05-1.pdf. The process now requires the submission of a separate-rate status application.

Due to the large number of firms requesting an administrative review in this proceeding, the Department is requiring all firms listed above that wish to qualify for separate-rate status in this administrative review to complete, as appropriate, either a separate-rate status application or certification, as described below. If the Department determines to select the mandatory respondents through sampling in this administrative review, the Department will require all potential respondents to demonstrate their eligibility for a separate rate. The Department then will make the separate-rate determinations and allow only those respondents with separate-rate status to be included in the sampling pool. For those respondents that are determined later in this segment to have provided inaccurate information regarding their separate-rate status, the Department may apply facts available with an adverse inference.

For this administrative review, in order to demonstrate separate-rate eligibility, the Department requires entities for whom a review was requested that were assigned a separate rate in the previous segment of this proceeding to certify that they continue to meet the criteria for obtaining a separate rate. The certification form will be available on the Department's website at http://ia.ita.doc.gov/ on the date of publication of this Federal Register. In responding to the certification, please follow the “Instructions for Filing the Certification” in the Separate Rate Certification. Certifications are due to the Department no later than March 30, 2006. The deadline and requirement for submitting a Certification applies equally to NME-owned firms, wholly foreign-owned firms, and foreign sellers who purchase the subject merchandise and export it to the United States.

For entities that have not previously been assigned a separate rate, to demonstrate eligibility for such, the Department requires a separate-rate status application. The separate-rate status application will be available on the Department's website at http://ia.ita.doc.gov/ on the date of publication of this Federal Register. In responding to the separate-rate status application, refer to the instructions contained in the application. Separate-rate status applications are due to the Department no later than April 18, 2006. The deadline and requirement for submitting a separate-rate status application applies equally to NME-owned firms, wholly foreign-owned firms, and foreign sellers that purchase the subject merchandise and export it to the United States. Further, if the Department decides to select mandatory respondents by sampling, due to the time constraints imposed by our statutory deadlines and the need to preserve the statistical validity of the sampling methodology, the Department may be unable to grant any extensions for the submission of separate-rate certifications or applications.

Quantity and Value Questionnaire

In advance of issuance of the antidumping questionnaire, we will also be requiring all parties for whom a review is requested to respond to a Quantity and Value (“Q&V”) questionnaire, which will request information on the respective quantity and U.S. dollar sales value of all exports to the United States of wooden bedroom furniture during the period of June 24, 2004, through December 31, 2005. Additionally, in the event sampling is employed, in order to determine a sampling method that is representative of the sales under review, the Department will require that each company complete the economic characteristics section of the Q&V questionnaire. The Q&V questionnaire will be available on the Department's website at http://ia.ita.doc.gov/ on the date of publication of this Federal Register. The responses to the Q&V questionnaire are due to the Department no later than April 7, 2006. Due to the time constraints imposed by our statutory and regulatory deadlines, and the need to preserve the statistical validity of the sampling methodology, the Department may not be able to grant any extensions for the submission of the Q&V questionnaire. In responding to the Q&V questionnaire, refer to the instructions contained in the Q&V questionnaire.

Notice

This notice constitutes public notification to all firms requested for review and seeking separate-rate status in this administrative review of the antidumping duty order on wooden bedroom furniture from the PRC that they must submit a separate-rate status application or certification (as appropriate) as described above, and a complete response to the Q&V questionnaire within the time limits established in this notice of initiation of administrative review in order to receive consideration for separate-rate status. In other words, the Department will not give consideration to any separate-rates certification or separate rate-status application made by parties that fail to timely respond to the Q&V questionnaire or fail to timely submit the requisite separate-rate certification or application. All information submitted by respondents in this administrative review is subject to verification. To allow the possibility for sampling and to complete this segment within the statutory time frame, the Department will be limited in its ability to extend deadlines on the above submissions. As noted above, the separate-rate certification, the separate-rate status application, and the Q&V questionnaire will be available on the Department's website at http://ia.ita.doc.gov/ on the date of publication of this Federal Register. However, because this is the first administrative review in which the Department is applying these procedures, the Department will also issue, as a courtesy to the parties, a letter of notification of these requirements to the parties requested for review.

Interested parties must submit applications for disclosure under administrative protective orders in accordance with 19 CFR 351.305. Instructions for filing such applications may be found on the Department's website at http://ia.ita.doc.gov.

This initiation and notice are in accordance with section 751(a) of the Act (19 USC 1675(a)), and 19 CFR 351.221(c)(1)(i).

Dated: February 28, 2006.
Wendy J. Frankel,
Director, AD/CVD Operations, Office 8, for Import Administration.

[FR Doc. E6-3172 Filed 3-6-06; 8:45 am]

BILLING CODE 3510-DS-S